DEPARTMENT OF THE INTERIOR

Bureau of Land Management

[CA-338-03-1610-00]

Notice of Availability of Record of Decision (ROD) for the King Range National Conservation Area (NCA) Resource Management Plan (RMP)/Environmental Impact Statement (EIS)

AGENCY: Bureau of Land Management, Interior.

ACTION: Notice of availability.

SUMMARY: In accordance with the National Environmental Policy Act (NEPA), the Federal Land Policy and Management Act (FLPMA), the King Range Act and the Bureau of Land Management (BLM) management policies, the BLM announces the availability of the RMP/ROD for the King Range National Conservation Area located in Humboldt and Mendocino Counties, California. California State Director Mike Pool will sign the RMP/ROD, which becomes effective immediately upon this signing.

ADDRESSES: Copies of the King Range NCA RMP/ROD are available upon request from the Field Manager, Arcata Field Office, Bureau of Land Management, 1695 Heindon Road, Arcata, CA 95521 or via the Internet at http://www.ca.blm.gov/arcata.

FOR FURTHER INFORMATION CONTACT: Bob Wick, Project Lead, BLM Arcata Field Office, 1695 Heindon Road Arcata, CA 95521. (707) 825-2321. E-mail: rwick@ca.blm.gov.

SUPPLEMENTARY INFORMATION: The King Range NCA RMP/ROD was developed with broad public participation through a two year collaborative planning process. This RMP/ROD addresses management on approximately 62,000 acres of public land in the planning area. The King Range NCA RMP/ROD is designed to achieve or maintain desired future conditions developed through the planning process. It includes a series of management actions to meet the desired resource conditions for upland and riparian vegetation, wildlife habitats, cultural and visual resources, livestock grazing, coastal resources, and recreation.

The approved King Range NCA RMP is essentially the same as the Proposed Plan Alternative in the Proposed King Range NCA RMP/Final Environmental Impact Statement (PRMP/FEIS), published in November, 2004. No inconsistencies with State or local plans, policies, or programs were identified during the Governor Consistency review of the PRMP/FEIS. BLM received four protests to the PRMP/FEIS. Minor editorial modifications were made in preparing the RMP/ROD as a result of the protests. These modifications corrected errors that were noted in protests and during review of the PRMP/FEIS and provide further clarification for some of the decisions. An errata sheet is included with the RMP/ROD that identifies the location of the corrections in the PRMP/FEIS.

Donald J. Holmstrom,
Acting Arcata Field Manager.

[FR Doc. 05-9744 Filed 5-16-05; 8:45 am]

BILLING CODE 4310-40-P